DEPARTMENT OF COMMERCE

Bureau of Industry and Security

Special Comprehensive License and the Special Intra-Company License

ACTION: Proposed collection; request for comments.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before October 1, 2004.

ADDRESSES: Direct all written comments to Diana Hynek, Departmental Paperwork Officer, Department of Commerce, Room 6625, 14th and Constitution Avenue, NW., Washington, DC 20230, or via e-mail at dHynek,@doc.gov.

FOR FURTHER INFORMATION CONTACT: Requests for additional information or copies of the information collection instrument(s) and instructions should be directed to George Ipock, BIS ICB Liaison, Department of Commerce, Room 6622, 14th & Constitution Avenue, NW., Washington, DC 20230.

SUPPLEMENTARY INFORMATION:

I. Abstract

Section 752 of the Export Administration Regulations (EAR) outlines the SCL Procedure which authorizes multiple shipments of items from the U.S. or from approved consignees abroad who are approved in advance by BIS to conduct the following activities: servicing, support services, stocking spare parts, maintenance, capital expansion, manufacturing, support scientific data acquisition, reselling and reexporting in the form received, and other activities as approved on a case-by-case basis. Section 753 of the EAR outlines requirements, procedures, and policies for the Special Intra-company License (SIL), whereby exporters with a proven record of conformance with the EAR can eliminate numerous individual licenses for technology exports, reexports, and in-country transfers within the corporate structure of a company, e.g., from a U.S. corporation to its wholly-owned subsidiaries, from one wholly-owned subsidiary to another, and from the U.S. corporation to its foreign national employees in the U.S. or abroad.

II. Method of Collection

Submitted on forms.

III. Data

OMB Number: 0694-0089.

Form Number: BIS-748P and BIS-752P.

Type of Review: Regular submission for extension of a currently approved collection for the purpose of adding additional activities to the collection authority.

Affected Public: Individuals, businesses or other for-profit and not-for-profit institutions.

Estimated Number of Respondents: 176.

Estimated Time Per Response: 5 minutes to 40 hours per response.

Estimated Total Annual Burden Hours: 1,375.

Estimated Total Annual Cost: No start-up or capital expenditures.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: July 27, 2004.
Madeleine Clayton,
Management Analyst, Office of the Chief Information Officer.

[FR Doc. 04-17457 Filed 7-30-04; 8:45 am]

BILLING CODE 3510-33-P[]